DEPARTMENT OF THE INTERIOR

National Park Service

[N6803; NPS-WASO-NAGPRA-NPS0041625; PPWOCRADN0-PCU00RP14.R50000]

Notice of Intended Repatriation: Wisconsin Historical Society, Madison, WI

AGENCY: National Park Service, Interior.

ACTION: Notice.

SUMMARY: In accordance with the Native American Graves Protection and Repatriation Act (NAGPRA), the Wisconsin Historical Society (WHS) intends to repatriate certain cultural items that meet the definition of unassociated funerary objects, sacred objects, and/or objects of cultural patrimony and that have a cultural affiliation with the Indian Tribes or Native Hawaiian organizations in this notice.

DATES: Repatriation of the cultural items in this notice may occur on or after January 21, 2026.

ADDRESSES: Send additional, written requests for repatriation of the cultural items in this notice to Jacqueline Pozza Reisner, Wisconsin Historical Society, 204 S Thornton Avenue, Madison, WI 53703, email jacqueline.pozza@wisconsinhistory.org.

SUPPLEMENTARY INFORMATION: This notice is published as part of the National Park Service's administrative responsibilities under NAGPRA. The determinations in this notice are the sole responsibility of the WHS, and additional information on the determinations in this notice, including the results of consultation, can be found in the summary or related records. The National Park Service is not responsible for the determinations in this notice.

Abstract of Information Available

A total of nine sets of cultural items have been requested for repatriation. A total of eight of the sets of items are objects of cultural patrimony and one is an unassociated funerary object.

The objects of cultural patrimony are: items purchased from Paul J. Warner of Chicago, Illinois: a string of wampum (1954.1676) and three brooches worn and used by John W. Quinney collected in Stockbridge, Wisconsin (1954.1677, a-b). A beaded pouch made by a Stockbridge woman, c. 1843, and donated through the Rosellette Bird estate (1954.1680). Four sets of items from Austin Quinney of Stockbridge, Wisconsin donated through the Harriet B. Quinney estate: a firemaking set (1954.1699, A-B, D), a fiber and buffalo bag (1954.2048), and two sets of two garters (1954.2052, A and 1954.2053, a). Lastly, a wampum bead collected in Outagamie County by William F. Wolf (1975.287.6).

The one unassociated funerary object is a stone pendant (1955.1341) removed from a burial mound at Dorn's Landing in Calumet County, Wisconsin by the donor of the pendant—Orrin Thompson—in 1844. WHS has no documentation indicating that human remains were removed from the mound by the donor.

Determinations

WHS has determined that:

• The one unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The eight sets of objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Stockbridge Munsee Community, Wisconsin.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 21, 2026. If competing requests for repatriation are received, WHS must determine the most appropriate requestor prior to repatriation. Requests for joint repatriation of the cultural items are considered a single request and not competing requests. WHS is responsible for sending a copy of this notice to the Indian Tribes and Native Hawaiian organizations identified in this notice and to any other consulting parties.

Authority: Native American Graves Protection and Repatriation Act, 25 U.S.C. 3004 and the implementing regulations, 43 CFR 10.9.

Dated: December 11, 2025.
Melanie O'Brien,
Manager, National NAGPRA Program.

[FR Doc. 2025-23536 Filed 12-19-25; 8:45 am]

BILLING CODE 4312-52-P